DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 4912-4913, dated January 28, 2016) is amended to reflect the reorganization of the National Center on Birth Defects and Developmental Disabilities, Centers for Disease Control and Prevention.

Section C-B, Organization and Functions, is hereby amended as follows:

Delete in its entirety the title and function statements for the Division of Birth Defects and Developmental Disabilities (CUBB) and insert the following:

Division of Congenital and Developmental Disorders (CUBB). (1) Conducts research to determine the causes and prevention of birth defects and developmental disabilities; (2) maintains and expands support for state-based surveillance; (3) evaluates the effectiveness of efforts to prevent birth defects and developmental disabilities; (4) conducts and disseminates findings of epidemiologic research, investigations, demonstrations, and programs directed toward the prevention of selected adverse reproductive outcomes that are environmentally related; (5) provides assistance to State and local health departments on community exposures to terotogenic, mutagenic, embryotoxic, other environmental agents, and genetic influences adversely interfering with normal growth and development; (6) conducts research and develops programs to identify women at high risk of an alcohol-exposed pregnancy and to fund epidemiologic and clinical research studies aimed at early identification and intervention of children affected by prenatal alcohol exposure; (7) works closely with international organizations and entities in developing strategies and programs for reducing the number of birth defects and developmental disabilities; (8) develops and evaluates prevention strategies and provides training, technical consultation, and assistance to States and localities in developing their capacity for planning, establishing, and maintaining surveillance and prevention programs; (9) maintains and oversees funding and technical assistance to state-based institutions (e.g., the Centers for Birth Defects Research and Prevention that seek causes and promotes prevention of birth defects); (10) plans, develops, establishes, and maintains systems of surveillance including registries for monitoring, evaluating and disseminating information; (11) assists in increasing the capacity of States to prevent and control birth defects and developmental disabilities through training, technology transfer, grants, cooperative agreements, contracts, and other means; (12) provides information and education to the public; (13) provides services, consultation, technical assistance, and information to States, localities, other Federal agencies, international organizations, and other public and private organizations; (14) provides training in the epidemiology to professionals throughout the U.S. and abroad; and (15) collaborates and coordinates activities with other CIOs and HHS agencies.

Office of the Director (CUBB1). (1) Manages, directs, and coordinates the research agenda and activities of the division; (2) provides leadership and guidance on strategic planning, policy, program and project priority planning and setting, program management, and operations; (3) establishes division goals, objectives, and priorities; (4) monitors progress in implementation of projects and achievement of objectives; (5) plans, allocates, and monitors resources; (6) provides management, administrative, and support services, and coordinates with appropriate NCBDDD offices on program and administrative matters; (7) provides liaison with other CDC organizations, other governmental agencies, international organizations, and other outside groups; (8) provides support for internal scientific advisory groups; (9) provides scientific leadership and guidance to the division to assure highest scientific quality and professional standards; and (10) provides coordinative support for CDC's efforts to reduce adverse consequences from birth defects, developmental disabilities, and pediatric genetic conditions.

Birth Defects Branch (CUBBB). (1) Designs and conducts epidemiologic and genetic research to identify causes and risk factors of birth defects; (2) conducts and evaluates interventions to improve infant and child health by preventing or reducing the adverse consequences of birth defects; (3) designs and conducts surveillance of selected birth defects to identify rates, trends, and patterns of occurrence, and to evaluate the effectiveness of prevention programs; (4) disseminates findings of studies to the scientific and public health communities, and to the general public; (5) provides technical assistance to state and local agencies on surveillance of birth defects, epidemiologic research, prevention program design and evaluation, and prevention effectiveness research; (6) funds and coordinates grant and cooperative agreement programs and other extramural activities to improve the knowledge base for the prevention of birth defects through surveillance, epidemiologic research, and applies research of preventive interventions; (7) coordinates activities with other CDC functional units, HHS, other federal agencies, and appropriate private organizations regarding research and prevention programs for birth defects; (8) works with international organizations in developing strategies for the prevention of birth defects; and (9) disseminates findings of research through direct contact with health authorities, publication and distribution of special reports, publication in scientific and technical journals, conference presentations, and other appropriate means.

Prevention Research and Translation Branch (CUBBC). (1) Modifies the impact of prenatal exposures leading to adverse physical and developmental impairments in infants, children, and adults including integrating successful prevention programs into social and medical environments, and evaluating innovative, effective, and strategic health promotion programs; (2) develops, implements, evaluates, and disseminates education and communication interventions that lead to the prevention of birth defects and developmental disabilities; (3) designs and conducts surveillance of preventable birth defects and developmental disabilities to identify rates, trends, and patterns of occurrence, and to evaluate the effectiveness of prevention programs; (4) disseminates findings of epidemiologic studies to the scientific and public health communities, and to the general public; (5) conducts prevention effectiveness research to evaluate interventions strategies for the prevention of birth defects and developmental disabilities; (6) identifies and monitors major preconception, prenatal and perinatal risks, and protective factors for fetal alcohol spectrum disorders (FASD) and other prenatal alcohol attributable conditions; (7) provides technical assistance to state and local agencies on surveillance, epidemiologic research, prevention program design and evaluation, and prevention effectiveness research; (8) funds and coordinates grant and cooperative agreement programs and other extramural activities to improve the knowledge base for the prevention of birth defects and developmental disabilities through surveillance, epidemiologic research, and applies research of preventive interventions; (9) coordinates activities with other CDC functional units, HHS, other federal agencies and appropriate private organizations regarding research and prevention programs for birth defects and developmental disabilities; (10) works with international organizations in developing strategies for the prevention of birth defects and developmental disabilities; and (11) disseminates finding of research through direct contact with health authorities, publication and distribution of special reports, publication in scientific and technical journals, conference presentations, and other appropriate means.

Developmental Disabilities Branch (CUBBD). (1) Designs and conducts surveillance of developmental disabilities to identify rates, trends, and patterns of occurrence, and to evaluate the effectiveness of prevention programs; (2) conducts epidemiologic studies of developmental disabilities to identify causes and risk factors for these conditions; (3) disseminates findings of epidemiologic studies to the scientific and public health communities and to the general public; (4) conducts prevention effectiveness research to evaluate interventions strategies for the prevention of developmental disabilities; (5) conducts epidemiologic studies to identify and describe specific conditions and long-term outcomes of developmental disabilities; (6) provides technical assistance to state and local agencies on surveillance of developmental disabilities, epidemiologic research, prevention program design and evaluation, and prevention effectiveness research; (7) funds and coordinates grant and cooperative agreement programs and other extramural activities to improve the knowledge base for the prevention of developmental disabilities through surveillance, epidemiologic research, and applies research of preventive interventions; (8) coordinates activities with other CDC functional units, HHS, other federal agencies and appropriate private organizations regarding research and prevention programs for developmental disabilities; (9) collaborates with international organizations in developing strategies for the prevention of developmental disabilities; (10) disseminates findings of research through direct contact with health authorities, publication and distribution of special reports, publication in scientific and technical journals, conference presentations, and other appropriate means; and (11) provides training in the epidemiology of developmental disabilities to professionals throughout the United States and abroad.

Delete in its entirety the title and function statement for the Epidemiology and Surveillance Branch (CUBDB) and insert the following:

Epidemiology and Surveillance Branch (CUBDB). (1) Provides scientific leadership in the design and implementation of monitoring systems as well as designs and conducts epidemiologic and genetic research to identify causes, risk factors and complications of blood disorders in affected populations; (2) designs and manages surveillance systems to evaluate the incidence, morbidity, and mortality associated with blood diseases and disorders; (3) plans, develops and coordinates special surveys and populations studies to monitor and assess the complications of blood disorders; (4) designs and implements studies using surveillance data to identify risk factors for the complications of blood disorders, and evaluating the effectiveness of the prevention activities; (5) provides epidemiologic and medical consultation and technical assistance, including epidemic aids to state and local health departments, other governmental agencies, and other public and private institutions in the investigation of blood disorders and related complications; (6) designing and implements studies to evaluate the effectiveness of implemented prevention strategies in the treatment centers, (7) works closely with internal and external organizations in applying prevalence and incidence data to target and evaluate programs to prevent the complications of blood diseases and chronic hereditary disorders, (8) publishes findings and advances arising out of surveillance and epidemiologic research to the scientific and public health communities; (9) provides training services to states, localities, and other countries in investigation, diagnosis, prevention, and control of blood diseases and chronic hereditary disorders; (10) assists in designing, implementing, and evaluating prevention and counseling programs for persons and their families with chronic blood diseases and selected chronic hereditary disorders; (11) designs, implements and coordinates the prevention and surveillance activities of specialized federally funded prevention centers organized to prevent the complications of blood diseases and chronic hereditary disorders; (12) conducts and supports both qualitative and quantitative research to expand the knowledge base related to blood disorders across the lifespan; (13) collaborates with hemostasis laboratory branch and incorporates the findings of these branches' activities which leads to prevention of complications of blood disorders; (14) supports public health analysis to include facilitating data collection, data management, data manipulation, analysis, project reporting and presentation; and (15) conducts applied research to develop, evaluate, improve and standardize public information systems and educational modules which support the prevention of complications from blood disorders.

Delete in its entirety the title and function statement for the Laboratory Research Branch (CUBDC) and insert the following:

Hemostasis Laboratory Branch (CUBDC). (1) Identifies new genetic markers of risk factors and clotting defects for affected groups; (2) provides reference laboratory diagnosis for multi-site epidemiologic and surveillance studies; (3) develops techniques and interpretation methods to improve molecular and coagulation diagnosis; (4) provides diagnostic support for epidemiologic studies and epidemic aids on emerging blood disorders and chronic hereditary disorders; (5) determines the mechanisms of pathogenesis and complications of blood disorders and chronic hereditary disorders;

(6) conducts research and providing reference services on diagnostic techniques for blood disorders and chronic hereditary disorders; (7) conducts research to improve laboratory methodologies and materials; (8) where appropriate, maintains the national reference laboratory for blood disorders and chronic hereditary disorders; (9) works closely with entities and organizations within the agency and organizations external to the agency to provide laboratory services in support of projects whose primary aim is to prevent and reduce complications associated with blood disorders and chronic hereditary disorders; and (10) publishes findings and advances arising out of surveillance and epidemiologic research to the scientific and public health communities.

Delete in its entirety the title and function statement for the Prevention Research and Informatics Branch (CUBDD).

Sherri A. Berger,
Chief Operating Officer, Centers for Disease Control and Prevention.

[FR Doc. 2016-01833 Filed 2-1-16; 8:45 am]

BILLING CODE 4160-18-P